DEPARTMENT OF TRANSPORTATION

Federal Highway Administration

Environmental Impact Statement: Jackson, Harrison and Hancock, Greene, Stone, and Pearl River Counties, Mississippi

AGENCY: Federal Highway Administration (FHWA), DOT.

ACTION: Notice of intent.

SUMMARY: The Federal Highway Administration is issuing this notice to advise the public that an Environmental Impact Statement (EIS) will be prepared for the CSX Railroad Relocation Study in the above referenced counties in Mississippi.

FOR FURTHER INFORMATION CONTACT: Mr. Cecil Vick, Realty Officer/Environmental Coordinator, and Mr. Dickie Walters, Environmental Protection Specialist, Federal Highway Administration, 666 North Street, Suite 105, Jackson, MS 39202-3199, Telephone: (601) 965-4217. Contacts at the State and local level, respectively are: Mr. Claiborne Barnwell, Environmental/Location Division Engineer, Mississippi Department of Transportation, P.O. Box 1850, Jackson, MS, 39215-1850, telephone: (601) 359-7920; and Mr. Ricky Lee, District 6 Engineer, Mississippi Department of Transportation, P.O. Box 551, Hattiesburg, MS, 39403-0551, telephone (601) 544-6511.

SUPPLEMENTARY INFORMATION: The FHWA, in cooperation with the Mississippi Department of Transportation (MDOT) will prepare an Environmental Impact Statement (EIS) for the relocation study through the six counties of the Mississippi Gulf Coast—Jackson, Harrison, Hancock, Greene, Stone, and Pearl River counties.

The relocated CSX Railroad will be situated within the six Mississippi coastal counties noted above. The project has logical termini at both the eastern and western termini of the State of Mississippi where the connection will occur with the CSX railroad into the states of Alabama and Louisiana. The purpose of the CSX Study is three-fold: Identify the best feasible corridor for relocation of the CSX Railroad in Mississippi; obtain the necessary environmental clearances; and demonstrate the applicability of remote sensing technologies to environmental analysis for transportation planning projects and decision making. Of paramount importance to this effort is the public participation process. The relocated CSX Railroad will enter Mississippi at the eastern terminus in Jackson County and extend generally in a western alignment through Harrison County into Jackson County exiting the state at the western terminus into Louisiana. Alternatives under consideration include (1) taking no action and (2) various build alternatives.

The FHWA and MDOT are seeking input as a part of the scoping process to assist in determining and clarifying issues relative to this project. Letters describing the proposed action and soliciting comments have been sent to appropriate Federal, State, and local agencies, and to private organizations and citizens who have previously expressed or are known to have interest in this proposal. A formal scoping meeting with Federal, State, and local agencies, and other interested parties has been held.

Coordination will be continued with appropriate Federal, State, and local agencies, Native American tribes and private organizations and citizens who have previously expressed or are known to have interest in this proposal. Numerous public involvement meetings will be held, a newsletter will be developed, and a Web site will be created to keep the public informed. A local project office will be opened in Gulfport, Mississippi. The draft EIS will be available for public and agency review and comment prior to the official public hearing.

To ensure that the full range of issues related to this proposed action are addressed and all significant issues identified, comments, and suggestions are invited from all interested parties. Comments or questions concerning this proposed action and the EIS should be directed to the FHWA at the address provided above.

Andrew H. Hughes,
Division Administrator, Jackson, Mississippi.

[FR Doc. 03-9985 Filed 4-22-03; 8:45 am]

BILLING CODE 4910-22-M